DEPARTMENT OF DEFENSE

DEPARTMENT OF TRANSPORTATION

Coast Guard

DEPARTMENT OF VETERANS AFFAIRS

38 CFR Part 21

RIN 2900-AI68

Reservists Education: Monthly Verification of Enrollment and Other Reports

AGENCIES: Department of Defense, Department of Transportation (Coast Guard), and Department of Veterans Affairs.

ACTION: Final rule.

SUMMARY: This document amends the educational assistance and educational benefit regulations of the Department of Veterans Affairs (VA). It expands the current requirement that some reservists receiving educational assistance under the Montgomery GI Bill—Selected Reserve (MGIB-SR) verify their pursuit of a program of education monthly to include those reservists who are pursuing a standard college degree. At the same time the document reduces the number of reports VA receives from educational institutions. We believe this is a cost-effective way to reduce overpayments.

DATES: Effective Date: June 1, 2001.

FOR FURTHER INFORMATION CONTACT: William G. Susling, Jr., Education Adviser, Education Service (225C), Veterans Benefits Administration, (202) 273-7187.

SUPPLEMENTARY INFORMATION: In a document published in the Federal Register on March 31, 1998 (63 FR 15341), VA, the Department of Defense (DOD), and the Department of Transportation (Coast Guard) proposed withholding monthly payments of educational assistance under the MGIB-SR until VA receives the reservist's monthly certification of enrollment in and satisfactory pursuit of a program of education. In addition, in keeping with statutory provisions, VA, DOD, and the Coast Guard proposed that when a reservist withdraws from one or more courses with mitigating circumstances, VA would reduce or discontinue his or her educational assistance on the effective date of the reduction in training. Furthermore, we proposed that an educational institution had to report changes and interruptions in a reservist's training to VA without delay. We sought comments under the Paperwork Reduction Act concerning the collections of information in proposed §§ 21.7654 and 21.7656.

We gave interested persons 60 days to submit comments. We received no comments.

As proposed, the rule would have authorized the Secretary to permit submission of the monthly certification in writing or by telephone. Although we received no formal comments, we have concluded that there is no reason that the rule should not also authorize VA to allow the reservist to submit the monthly verification electronically. Accordingly, the final rule makes a change to proposed § 21.7654 by adding the words “or electronically.” Based on the rationale set forth in the proposed rule and in this document, we are adopting the provisions of the proposed rule as a final rule, with this change; with nonsubstantive changes for the purpose of clarification; and with a change to display the currently valid Office of Management and Budget control numbers assigned to approved collections of information in §§ 21.7654 and 21.7656.

DOD, the Coast Guard, and VA are jointly issuing this final rule since it pertains to the MGIB-SR. DOD and the Coast Guard fund this program, and VA administers it.

Paperwork Reduction Act of 1995

The Office of Management and Budget (OMB) has approved the information collection requirements in this final rule concerning §§ 21.7654 and 21.7654(a) under the provisions of the Paperwork Reduction Act of 1995 (44 U.S.C. 3501-3520) and has assigned OMB control number 2900-0597. The provisions of §§ 21.7654 and 21.7656(a) require a reservist to certify monthly his or her continued enrollment in and satisfactory pursuit of a program of education. This is permitted by 10 U.S.C. 16136(b) and 38 U.S.C. 3684.

OMB has also approved the information collection requirements in this final rule concerning § 21.7656(b) under the provisions of the Paperwork Reduction Act of 1995 and has assigned OMB control number 2900-0612. The provisions of § 21.7656(b) require an educational institution to report changes, including interruptions and terminations, in a reservist's training to VA without delay. This is required by 10 U.S.C. 16136(b) and 38 U.S.C. 3684.

OMB assigns a control number for each collection of information it approves. VA may not conduct or sponsor, and a person is not required to respond to, a collection of information unless it displays a currently valid OMB control number. The valid OMB control number assigned to each collection of information in this final rule is displayed at the end of each of the affected sections of the regulations.

Regulatory Flexibility Act

The signers of this document hereby certify that this final rule will not have a significant economic impact on a substantial number of small entities as they are defined in the Regulatory Flexibility Act, 5 U.S.C. 601-612. This final rule may affect some educational institutions that are small entities. However, educational institutions are paid a reporting fee for making required reports to VA. Furthermore, VA does not believe that a burden of less than two hours annually would result in a significant economic impact. Pursuant to 5 U.S.C. 605(b), this final rule, therefore, is exempt from both the initial and final regulatory flexibility analyses requirements of sections 603 and 604.

There is no Catalog of Federal Domestic Assistance number for the program affected by this final rule.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocation rehabilitation.

Approved: April 28, 2000.
Togo D. West, Jr.,
Secretary of Veterans Affairs.
Approved: August 3, 2000.
Charles L. Cragin,
Principal Deputy Assistant Secretary of Defense for Reserve Affairs.
Approved: September 26, 2000.
F.L. Ames,
Rear Admiral, U.S. Coast Guard, Assistant Commandant for Human Resources.

For the reasons set out above, 38 CFR part 21 (subpart L) is amended as follows:

PART 21—VOCATIONAL REHABILITATION AND EDUCATION

Subpart L—Educational Assistance for Members of the Selected Reserve

1. The authority citation for part 21, subpart L continues to read as follows:

Authority: 10 U.S.C. ch. 1606; 38 U.S.C. 501(a), 512, ch. 36, unless otherwise noted.

2. In § 21.7635, paragraph (c)(1) introductory text is revised to read as follows:

§ 21.7635 Discontinuance dates.

* * * * *

(c) * * *

(1) If the reduction in the rate of training occurs other than on the first date of the term, VA will reduce the reservist's educational assistance effective on the date the reduction occurred when:

* * * * *

3. Section 21.7654 is amended by:

A. Adding introductory text.

B. Revising paragraph (a).

C. Redesignating paragraph (b) as paragraph (c).

D. Adding a new paragraph (b).

E. Revising the parenthetical at the end of the section.

The additions and revisions read as follows:

§ 21.7654 Pursuit and absences.

Except as provided in this section, a reservist must submit a verification to VA each month of his or her enrollment during the period for which the reservist is to be paid. This verification shall be in a form prescribed by the Secretary.

(a) Exceptions to the monthly verification requirement. A reservist does not have to submit a monthly verification as described in the introductory text of this section when the reservist—

(1) Is enrolled in a correspondence course; or

(2) Has received an advance payment for the training completed during a month.

(Authority: 10 U.S.C. 16136(b); 38 U.S.C. 3680(a), (g))

(b) Items to be reported on all monthly verifications. (1) The monthly verification for all reservists will include a report on the following items when applicable:

(i) Continued enrollment in and actual pursuit of the course;

(ii) The date of interruption or termination of training;

(iii) Except as provided in § 21.7656(a), changes in the number of credit hours or in the number of clock hours of attendance;

(iv) Nonpunitive grades; and

(v) Any other changes or modifications in the course as certified at enrollment.

(2) The verification of enrollment must:

(i) Contain the information required for release of payment;

(ii) If required or permitted by the Secretary to be submitted on paper, be signed by the reservist on or after the final date of the reporting period, or if permitted by the Secretary to be submitted by telephone or electronically in a manner designated by the Secretary, be submitted in the form and manner prescribed by the Secretary on or after the final date of the reporting period; and

(iii) If submitted on paper, clearly show the date on which it was signed.

(Authority: 10 U.S.C. 16136(b); 38 U.S.C. 3680(g))

* * * * *

(The Office of Management and Budget has approved information collection requirements in this section under control number 2900-0597.)

4. Section 21.7656 is amended by:

A. Revising the section heading.

B. Removing the introductory text.

C. Redesignating paragraphs (a), (a)(1), (a)(2), (a)(3) and (b) as paragraphs (b), (b)(3), (b)(4), (b)(5), and (c), respectively.

D. Revising the heading of newly designated paragraph (b).

E. Adding new paragraphs (a), (b)(1), and (b)(2).

F. Revising newly redesignated paragraph (b)(3).

G. Revising the authority citation for the newly redesignated paragraph (b).

H. Revising the parenthetical at the end of the section.

The additions and revisions read as follows:

§ 21.7656 Other required reports.

(a) Reports from reservists. (1) A reservist enrolled full time in a program of education for a standard term, quarter, or semester must report without delay to VA:

(i) A change in his or her credit hours or clock hours of attendance if that change would result in less than full-time enrollment;

(ii) Any change in his or her pursuit that would result in less than full-time enrollment; and

(iii) Any interruption or termination of his or her attendance.

(2) A reservist not described in paragraph (a)(1) of this section must report without delay to VA:

(i) Any change in his or her credit hours or clock hours of attendance;

(ii) Any change in his or her pursuit; and

(iii) Any interruption or termination of his or her attendance.

(Authority: 10 U.S.C. 16136(b); 38 U.S.C. 3684)

(b) Interruptions, terminations or changes in hours of credit or attendance. * * *

(1) Except as provided in paragraph (b)(2) of this section, an educational institution must report without delay to VA each time a reservist:

(i) Interrupts or terminates his or her training for any reason; or

(ii) Changes his or her credit hours or clock hours of attendance.

(2) An educational institution does not need to report a change in a reservist's hours of credit or attendance when:

(i) The reservist is enrolled full time in a program of education for a standard term, quarter, or semester before the change; and

(ii) The reservist continues to be enrolled full time after the change.

(3) If the change in status or change in number of credit hours or clock hours of attendance occurs on a day other than one indicated by paragraph (b)(4) or (b)(5) of this section, the educational institution will initiate a report of the change in time for VA to receive it within 30 days of the date on which the change occurs.

* * * * *

(Authority: 10 U.S.C. 16136(b); 38 U.S.C. 3684)

* * * * *

(The Office of Management and Budget has approved information collection requirements in this section under control numbers 2900-0612 and 2900-0597.)

[FR Doc. 00-26437 Filed 10-13-00; 8:45 am]

BILLING CODE 8320-01-U